DEPARTMENT OF COMMERCE

International Trade Administration

A-552-801

Certain Frozen Fish Fillets from the Socialist Republic of Vietnam: Notice of Rescission of Antidumping Duty New Shipper Review

AGENCY: Import Administration, International Trade Administration, Department of Commerce.

SUMMARY: On September 28, 2006, the Department of Commerce (“the Department”) published in the Federal Register (71 FR 56953) a notice announcing the initiation of a new shipper review of the antidumping duty order on certain frozen fish fillets from the Socialist Republic of Vietnam (“Vietnam”) for East Sea Seafoods Joint Venture Co., Ltd. (“East Sea Seafoods”). The period of review (“POR”) is August 1, 2005, to July 31, 2006. This review is now being rescinded because East Sea Seafoods withdrew its request in a timely manner.

EFFECTIVE DATE: January 23, 2007.

FOR FURTHER INFORMATION CONTACT: Matthew Renkey, AD/CVD Operations, Office 9, Import Administration, U.S. Department of Commerce, 14th Street and Constitution Avenue, N.W., Room 4003, Washington, D.C. 20230; telephone: (202) 482-2312.

SUPPLEMENTARY INFORMATION:

Background

On August 12, 2003, the Department published in the Federal Register an antidumping duty order covering certain frozen fish fillets from Vietnam. See Notice of Antidumping Duty Order: Certain Frozen Fish Fillets from the Socialist Republic of Vietnam, 68 FR 47909 (August 12, 2003). On August 31, 2006, East Sea Seafoods, requested, in accordance with section 751(a)(2)(B) of the Tariff Act of 1930, as amended (“the Act”), and 19 CFR 351.214(d), that the Department a conduct a new shipper review of this antidumping duty order covering the period August 1, 2005, through July 31, 2006.

On September 22, 2006, the Department initiated a new shipper review of East Sea Seafoods. See Certain Frozen Fish Fillets from the Socialist Republic of Vietnam: Initiation of Antidumping Duty New Shipper Review, 71 FR 56953 (September 28, 2006). On November 13, 2006, East Sea Seafoods filed a letter withdrawing its request for a new shipper review.

Rescission of Review

19 CFR 351.214(f)(1) states that if a party that requested a new shipper review withdraws the request within 60 days of the publication of the notice of initiation of the requested review, the Secretary will rescind the review. East Sea Seafoods withdrew its new shipper review request within the 60-day deadline, in accordance with 19 CFR 351.214(f)(1). Accordingly, we are rescinding this new shipper review of the antidumping duty order on certain frozen fish fillets from Vietnam for East Sea Seafoods covering the period August 1, 2005, through July 31, 2006.

Notification of Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice is issued and published in accordance with sections 751(a)(2)(B) and 777(i) of the Act and 19 CFR 351.214(f)(3).

Dated: January 12, 2007.
Stephen J. Claeys,
Deputy Assistant Secretary for Import Administration.

[FR Doc. E7-867 Filed 1-22-07; 8:45 am]

BILLING CODE 3510-DS-S